DEPARTMENT OF THE TREASURY

United States Mint

Establish Pricing for 2018 United States Mint Numismatic Product

AGENCY: United States Mint, Department of the Treasury.

ACTION: Notice.

SUMMARY: The United States Mint is announcing pricing for a new United States Mint numismatic product in accordance with the table below.

Product | Retail price
2018 American Innovation™ $1 Reverse Proof Coin—Introductory Coin | $9.95

FOR FURTHER INFORMATION CONTACT: Derrick Griffin, Product Manager, Sales and Marketing; United States Mint; 801 9th Street NW; Washington, DC 20220; or call 202-354-7500.

Authority: Public Law 115-197, the American Innovation $ Coin Act.

Dated: June 11, 2019.
David J. Ryder,
Director, United States Mint.

[FR Doc. 2019-12652 Filed 6-14-19; 8:45 am]

BILLING CODE P